DEPARTMENT OF TRANSPORTATION

Federal Aviation Administration

[Summary Notice No. PE-2000-25]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR part 11), this notice contains a summary of certain petitions seeking relief from specified requirements of the Federal Aviation Regulations (14 CFR Ch. I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 16, 2000.

ADDRESSES: Send comments on any petition in triplicate to: Federal Aviation Administration, Office of the Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of part 11 of the Federal Aviation Regulations (14 CFR part 11).

Issued in Washington, DC, on July 21, 2000.
Gary A. Michel,
Acting Assistant Chief Counsel for Regulations.

Dispositions of Petitions

Docket No.: 27672

Petitioner: Skydrive Chicago, Inc.

Section of the FAR Affected: 14 CFR 105.43(a)

Description of Relief Sought/Disposition: To permit SCI to allow nonstudent foreign nationals to participate in SCI-sponsored parachute jumping events held at SCI's facilities without complying with the parachute equipment and packing requirements of § 105.43(a).

Grant, 07/10/00, Exemption No. 7275

Docket No.: 30030

Petitioner: Midcoast Aviation, Inc.

Section of the FAR Affected: 14 CFR 145.45(f)

Description of Relief Sought/Disposition: To permit Midcoast to place and maintain its IPM in a number of fixed locations within its facilities in lieu of giving a copy of its IPM to each of its supervisory and inspection personnel.

Grant, 06/29/00, Exemption No. 7258

Docket No.: 28445

Petitioner: Aircraft Braking Systems Corporation

Section of the FAR Affected: 14 CFR 43.9(a)(4) and 43.11(a)(3), appendix B to part 43, and § 145.57(a)

Description of Relief Sought/Disposition: To permit ABSC to use computer-generated electronic signatures in lieu of physical signatures to satisfy approval for return-to-service signature requirements.

Grant, 06/14/00, Exemption No. 6542B

Docket No.: 29819

Petitioner: Bombardier Aerospace

Section of the FAR Affected: 14 CFR 25.813(e)

Description of Relief Sought/Disposition: To permit installation of interior doors between passenger compartments, on the BD-700-1A10 airplane.

Grant, 06/29/00, Exemption No. 7259

Docket No.: 29875

Petitioner: Airbus Industrie

Section of the FAR Affected: 14 CFR 25.857(e), §§ 25.785(d), 25.791, 25.807(c)(1), & (d)(1), 25.809(f)(1), 25.811(a), 25.812(g), 25.813(b), 25.857(e), and 25.1447(c)

Description of Relief Sought/Disposition: To permit type certification of the Airbus Model A300F4-600R airplane, with provisions for the carriage of supernumeraries when the airplane is equipped with one floor level exit with escape slide within the occupied area.

Grant, 06/30/00, Exemption No. 7260

Docket No.: 28092

Petitioner: B2W Corporation

Section of the FAR Affected: 14 CFR 135.143(c)(2)

Description of Relief Sought/Disposition: To permit B2W to operate certain aircraft under part 135 without a TSO-C112 (Mode S) transponder installed on those aircraft.

Grant, 05/23/00, Exemption No. 6083B

Docket No.: 30014

Petitioner: Mission Aviation Fellowship

Section of the FAR Affected: 14 CFR 135.251, 135.255, 135.353, and appendixes I and J to part 121

Description of Relief Sought/Disposition: To permit MAF to conduct local sightseeing flights at Santa Monica Municipal Airport, Santa Monica, California, for a one-day community fundraising event on May 31, 2000, or alternately on June 1, 2000, for compensation of hire, without complying with certain anti-drug and alcohol misuse prevention requirements of part 135.

Grant, 05/23/00, Exemption No. 7225

Docket No.: 30047

Petitioner: Brookings Flying Club, Inc.

Section of the FAR Affected: 14 CFR 135.251, 135.255, and 135.353 and appendixes I and J to part 121

Description of Relief Sought/Disposition: To permit Brookings to conduct local sightseeing flights at Brookings, Oregon airport for a one-day Airport Day Scholarship Fundraising event in May 2000, for compensation of hire, without complying with certain anti-drug and alcohol misuse prevention requirements of part 135.

Grant, 05/23/00, Exemption No. 7223

Docket No.: 30013

Petitioner: Mr. Guy Forshey

Section of the FAR Affected: 14 CFR 135.251, 135.255, 135.353, and appendixes I and J to part 121

Description of Relief Sought/Disposition: To permit Mr. Forshey to conduct local sightseeing flights at Altoona-Blair County Airport, Martinsburg, PA, for a charitable cause on June 11, 2000, for compensation of hire, without complying with certain anti-drug and alcohol misuse prevention requirements of part 135.

Grant, 05/23/00, Exemption No. 7226

Docket No.: 29575

Petitioner: Air Wisconsin Airlines

Section of the FAR Affected: 14 CFR 121.344(b)(3)

Description of Relief Sought/Disposition: To permit Air Wisconsin to operate 13 BAe-146 airplanes without installing the required, approved digital flight data recorder (DFDR) until the first heavy maintenance check after April 30, 2000.

Grant, 05/05/00, Exemption No. 6939B

Docket No.: 29930

Petitioner: Gulfshore Helicopters

Section of the FAR Affected: 14 CFR 135.143(c)(2)

Description of Relief Sought/Disposition: To permit Gulfshore to operate certain aircraft under part 135 without a TSO-C112 (Mode S) transponder installed in the aircraft.

Grant, 03.24/00, Exemption No. 7155

Docket No.: 29989

Petitioner: Experimental Aircraft Association Chapter 1047

Section of the FAR Affected: 14 CFR 135.1(a)(5)

Description of Relief Sought Disposition: To permit EAA Chapter 1047 and the Tar River CAP to conduct local sightseeing flights at the Rocky Mount/Wilson Airport in Rocky Mount, NC, for their annual open house on May 6, 2000, for compensation or hire, without complying with certain anti-drug and alcohol misuse prevention requirements of part 135.

Grant, 05/05/00, Exemption No. 7198

Docket No.: 29722.

Petitioner: Flight Express.

Section of the FAR Affected: 14 CFR 135.243(c)(2).

Description of Relief Sought/Disposition: To permit Flight Express to allow each of its pilots to act as pilot in command under instrument flight rules with a minimum of 800 hours of total flight time, including 330 hours of cross-country flight time, 70 hours of night flight time, and 50 hours of actual or simulated instrument flight time of which 30 hours were in actual flight, in lieu of the flight-time requirements.

Denial, 05/05/00, Exemption No. 7199

Docket No.: 29661

Petitioner: Experimental Aircraft Association, Small Aircraft Manufacturers Association and National Association of Flight Instructors.

Section of the FAR Affected: 14 CFR 91.319(a)(2).

Description of Relief Sought/Disposition: To permit EEA, SAMA, and NAFI members who own aircraft with an experimental certificate to be compensated for the use of the aircraft in transition training conducted by authorized flight instructors.

Grant, 04/06/00, Exemption No. 7162

Docket No.: 25177.

Petitioner: United States Coast Guard.

Section of the FAR Affected: 14 CFR 91.117(b) and (c), 91.119(c), 91.159(a) and 91.209(a).

Description of Relief Sought/Disposition: To permit USCG to conduct air operations in support of drug law enforcement and drug traffic interdiction without meeting part 91 provisions governing: (1) Aircraft speed, (2) minimum safe altitudes, (3) cruising operations for flights conducted under visual flight rules (VFR), and (4) use of aircraft lights.

Grant, 05/19/00, Exemption No. 5231E

[FR Doc. 00-18896 Filed 7-25-00; 8:45 am]

BILLING CODE 4910-13-M